SOCIAL SECURITY ADMINISTRATION

Agency Information Collection Activities; Proposed Request and Comment Request

The Social Security Administration (SSA) publishes a list of information collection packages requiring clearance by the Office of Management and Budget (OMB) in compliance with Public Law 104-13, the Paperwork Reduction Act of 1995, effective October 1, 1995. This notice includes revisions of OMB-approved information collections and a new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collection below is pending at SSA. SSA will submit it to OMB within 60 days from the date of this notice. To be sure we consider your comments, we must receive them no later than June 17, 2013. Individuals can obtain copies of the collection instruments by writing to the above email address.

Promoting Readiness of Minors in Supplemental Security Income (SSI) (PROMISE) Evaluation—Preliminary Activities—0960-NEW

Background

The Promoting Readiness of Minors in SSI (PROMISE) program pursues positive outcomes for children with disabilities who receive Supplemental Security Income (SSI) and their families by reducing dependency on SSI. The Department of Education is awarding grants to States to improve the provision and coordination of services and support for children with disabilities who receive SSI and their families to achieve improved outcomes.

PROMISE Evaluation

With support from the Department of Labor and the Department of Health and Human Services, SSA will evaluate the PROMISE program. SSA will contract with an evaluator to conduct the evaluation. The assessment will require a process evaluation of the PROMISE projects, an impact analysis of important outcomes, and a cost-benefit analysis. This will be a multi-site project conducted in four States. The evaluation contractor and the local PROMISE projects will collect data on project participants.

Current Information Collection Request

SSA will pursue OMB approval for the actual project surveys and focus group interviews at a later date. In this information collection request, SSA is only seeking OMB clearance for two pre-project activities: (1) An initial intake interview (documented on a demonstration enrollment form), and (2) a consent form. Contractors will conduct both preliminary activities at local project assessment sites. The respondents are minors receiving SSI and their parents/guardians who will eventually participate in the PROMISE project.

Type of Request: This is a new information collection.

Modality of completion | Number of respondents | Frequency of response | Number of responses | Average burden per response (minutes) | Estimated total annual burden (hours)
Demonstration Enrollment Form | 8,000 | Subjects will only fill this form out 1 time | 8,000 | 5 | 666
Consent Form | 8,000 | Subjects will only fill this form out 1 time | 8,000 | 2 | 266
Totals | 8,000 |  | 16,000 |  | 932

II. SSA submitted the information collections below to OMB for clearance. Your comments regarding the information collections would be most useful if OMB and SSA receive them 30 days from the date of this publication. To be sure we consider your comments, we must receive them no later than May 17, 2013. Individuals can obtain copies of the OMB clearance packages by writing to OR.Reports.Clearance@ssa.gov.

1. Request for Change in Time/Place of Disability Hearing—20 CFR 404.914(c)(2) and 416.1414(c)(2)—0960-0348. At the request of the claimants or their representative, SSA schedules evidentiary hearings at the reconsideration level for claimants of title II benefits or title XVI payments when we deny their claims for disability. When claimants or their representatives find they are unable to attend the scheduled hearing, they complete Form SSA-769 to request a change in time or place of the hearing. SSA uses the information as a basis for granting or denying requests for changes and for rescheduling disability hearings. Respondents are claimants or their representatives who wish to request a change in the time or place of their hearing.

Type of Request: Revision of an OMB-approved information collection.

Modality of collection | Number of respondents | Frequency of response | Average burden per response (minutes) | Estimated total annual burden (hours)
SSA-769 | 7,483 | 1 | 8 | 998

2. Beneficiary Interview and Auditor's Observations Form—0960-0630. SSA's Office of the Inspector General collects information through Form SSA-322, the Beneficiary Interview and Auditor's Observation form, to interview beneficiaries or their representative payees to determine if the payees are complying with their duties and responsibilities. SSA randomly selects SSI recipients and Social Security beneficiaries who have representative payees as respondents for this collection.

Type of Request: Revision of an OMB-approved information collection.

Modality of collection | Number of respondents | Frequency of response | Average burden per response (minutes) | Estimated total annual burden (hours)
SSA-322 | 1,000 | 1 | 15 | 250

Dated: April 12, 2013.
Faye Lipsky,
Reports Clearance Director, Social Security Administration.

[FR Doc. 2013-08982 Filed 4-16-13; 8:45 am]

BILLING CODE 4191-02-P